U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on August 21, 2023 on “China's Current Economy: Implications for Investors and Supply Chains.”

DATES: The hearing is scheduled for Monday, August 21, 2023 at 9:30 a.m.

ADDRESSES: Members of the public will be able to attend in person at Dirksen 430 or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the seventh public hearing the Commission will hold during its 2023 reporting cycle. The hearing will start with an evaluation of the health of China's financial sector, assessing the extent of China's evolving fiscal and financial challenges and the consequent implications for China's economic growth. Next, the hearing will examine China's role in global capital markets, including how Chinese firms raise capital from abroad via offshore tax havens and how China's sovereign wealth funds invest and deploy China's foreign exchange reserves. Finally, the hearing will address developments in U.S.-China trade relations and U.S. supply chain resiliency, looking at the major trends reshaping U.S. supply chain strategies in addition to China's efforts to secure dominance in key technology areas, such as clean energy technology.

The hearing will be co-chaired by Commissioner Robin Cleveland and Commissioner Kimberly T. Glas. Any interested party may file a written statement by August 21, 2023 by transmitting to the contact above. A portion of the hearing will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: August 1, 2023.
Daniel W. Peck,
Executive Director, U.S.-China Economic and Security Review Commission.

[FR Doc. 2023-16990 Filed 8-8-23; 8:45 am]

BILLING CODE 1137-00-P